DEPARTMENT OF HOUSING AND URBAN DEVELOPMENT

[Docket No. FR-7001-N-49]

30-Day Notice of Proposed Information Collection: Assessment of Additional Resource Needs for Smoke-Free Policy

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: October 11, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Colette Pollard, Reports Management Officer, QMAC, Department of Housing and Urban Development, 451 7th Street SW, Washington, DC 20410; email Colette.Pollard@hud.gov, or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on January 31, 2018 at 83 FR 4506.

A. Overview of Information Collection

Title of Information Collection: Assessment of Additional Resource Needs for Smoke-Free Policy.

OMB Approval Number: 2577—New.

Type of Request: New Collection.

Form Number: None.

Description of the need for the information and proposed use: In December of 2016, HUD finalized a rule requiring each and every public housing agency (PHA) to implement a Smoke-Free policy by July 30, 2018 (effective date). The Smoke-Free public housing rule is codified under 24 CFR parts 965.651, 965.653, 965.655, and 966.4. PHAs are required to have amended all resident leases by the effective date, at which point the policy must be enforced in full. Smoking of “lit tobacco products” such as cigarettes and hookahs is banned indoors and in outdoor areas within 25 feet of buildings. PHAs have the option of modifying the policy to expand the scope to e-cigarettes and/or additional areas on the property (e.g., playgrounds). PHAs may also opt to provide designated smoking areas (DSAs) outside the 25-foot boundary to provide shelter for smokers who reside in their public housing units. Residents who smoke are not required to quit, but if they wish to do so, then cessation services may be provided to them. HUD may issue other policies in the future that pertain to health or otherwise affect public housing agency operations. This survey will gather data on policies and programs pertaining to smoke-free policies. The information will be collected via online survey such as Qualtrics or SurveyMonkey, and will consist of approximately 40 questions, including Likert-type survey items and free response boxes. The submissions will be accessed by the Office of Public and Indian Housing (PIH) in order to evaluate the overall implementation effectiveness and identify areas that are experiencing difficulty in their implementation of policies. PIH may develop additional resources and/or target local resources that may be able to assist in their efforts.

Respondents (i.e., affected public): PHA leadership and staff.

Information collection | Number of respondents | Frequency of response | Responses per annum | Burden hour per response | Total burden hours | Hourly cost per responses | Total annualized cost
Completing online questionnaire | 870.00 | 1.00 | 870.00 | 0.25 | 217.50 | 30.47 | $6,627.22
Total | 870.00 | 1.00 | 870.00 | 0.25 | 217.500 | 30.47 | 6,627.22

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: including through the use of appropriate automated collection techniques or other forms of information technology, e.g., permitting electronic submission of responses.

HUD encourages interested parties to submit comment in response to these questions.

Authority: Section 3507 of the Paperwork Reduction Act of 1995, 44 U.S.C. Chapter 35.

Dated: August 30, 2018.
Colette Pollard,
Department Reports Management Officer, Office of the Chief Information Officer.

[FR Doc. 2018-19705 Filed 9-10-18; 8:45 am]

BILLING CODE 4210-67-P